DEPARTMENT OF COMMERCE

National Oceanic and Atmospheric Administration

[RTID 0648-XA812]

Recommendations for More Resilient Fisheries and Protected Resources Due to Climate Change

AGENCY: National Marine Fisheries Service (NMFS), National Ocean Service (NOS), National Oceanic and Atmospheric Administration (NOAA), Department of Commerce.

ACTION: Notice; request for information.

SUMMARY: On January 27, 2021, the White House issued an Executive Order on Tackling the Climate Crisis at Home and Abroad. As part of this effort, NOAA is collecting recommendations on how to make fisheries and protected resources more resilient to climate change, including changes in management and conservation measures, and improvements in science, monitoring, and cooperative research. NOAA requests written input from interested parties on how best to achieve these objectives described in the Executive Order.

DATES: Responses must be received by April 2, 2021.

ADDRESSES: Responses should be submitted via email to OceanResources.Climate@noaa.gov. Include “Climate: Recommendations for Fisheries and Protected Resources” in the subject line of the message.

Instructions: Response to this request for information (RFI) is voluntary. Respondents may comment on fisheries, protected resources or both. For all submissions, clearly indicate which issue(s) are being addressed. Email attachments will be accepted in plain text, Microsoft Word, or Adobe PDF formats only. Each individual or institution is requested to submit only one response. The Department of Commerce may post responses to this RFI, without change, on a Federal website. NOAA, therefore, requests that no business proprietary information, copyrighted information, or personally identifiable information be submitted in response to this RFI. Please note that the U.S. Government will not pay for response preparation, or for the use of any information contained in the response.

FOR FURTHER INFORMATION CONTACT: Heather Sagar, heather.sagar@noaa.gov, 301-427-8019.

SUPPLEMENTARY INFORMATION: On January 27, 2021, the President signed a new Executive Order on Tackling the Climate Crisis at Home and Abroad. Section 216(c) of the Executive Order requires the Secretary of Commerce, through the Administrator of the National Oceanic and Atmospheric Administration, to collect input from fishermen, regional ocean councils, fishery management councils, scientists, and other stakeholders on how to make fisheries and protected resources more resilient to climate change, including changes in management and conservation measures, and improvements in science, monitoring, and cooperative research.

Dated: February 24, 2021.
Benjamin Friedman,
Deputy Under Secretary for Operations, Performing the Duties of Under Secretary of Commerce for Oceans and Atmosphere and NOAA Administrator.

[FR Doc. 2021-04137 Filed 3-2-21; 8:45 am]

BILLING CODE 3510-22-P